DEPARTMENT OF ENERGY

Federal Energy Regulatory Commission

Combined Notice of Filings #1

March 2, 2007.

Take notice that the Commission received the following electric corporate filings:

Docket Numbers: EC07-63-000.

Applicants: Hardee Power Partners Limited.

Description: Hardee Power Partners Limited submits a request for authorization for a transaction that would result in an indirect change in the upstream ownership.

Filed Date: 02/27/2007.

Accession Number: 20070301-0152.

Comment Date: 5 p.m. Eastern Time on Tuesday, March 20, 2007.

Take notice that the Commission received the following electric rate filings:

Docket Numbers: ER98-411-014.

Applicants: Wolverine Power Supply Cooperative, Inc.

Description: Wolverine Power Supply Coop, Inc submits its third triennial market power analysis update.

Filed Date: 02/26/2007.

Accession Number: 20070301-0091.

Comment Date: 5 p.m. Eastern Time on Monday, March 19, 2007.

Docket Numbers: ER99-1005-007; ER05-1280-002; ER03-1079-008; ER02-47-007; ER02-1381-003; ER02-309-007.

Applicants: Kansas City Power & Light Company; Strategic Energy, LLC; Aquila, Inc.; Aquila Long Term, Inc.; Aquila Merchant Services, Inc.; MEP Clarksdale Power, LLC.

Description: Kansas City Power & Light Co and Strategic Energy, LLC submit a notification of Great Plains Energy Inc's pending acquisitions of Aquila and Aquila's MBR Entities.

Filed Date: 02/26/2007.

Accession Number: 20070301-0090.

Comment Date: 5 p.m. Eastern Time on Monday, March 19, 2007.

Docket Numbers: ER04-835-007; EL04-103-002.

Applicants: California Independent System Operator Corporation.

Description: California Independent System Operator Corp submits a compliance filing pursuant to FERC's 12/27/06 Order 492.

Filed Date: 02/26/2007.

Accession Number: 20070301-0088.

Comment Date: 5 p.m. Eastern Time on Monday, March 19, 2007.

Docket Numbers: ER07-572-000.

Applicants: Alliant Energy Corporate Services, Inc.

Description: Alliant Energy Corporate Services, Inc on behalf of Wisconsin and Light Co submits a Revised Master Power Supply Agreement with Great Lakes Utilities.

Filed Date: 02/26/2007.

Accession Number: 20070301-0087.

Comment Date: 5 p.m. Eastern Time on Monday, March 19, 2007.

Docket Numbers: ER07-573-000.

Applicants: Ocean State Power.

Description: Ocean State Power submits revisions to Rate Schedule FERC 1-4 and Rate Schedule FERC 5-8 to update the rate of return on equity.

Filed Date: 02/26/2007.

Accession Number: 20070301-0089.

Comment Date: 5 p.m. Eastern Time on Monday, March 19, 2007.

Take notice that the Commission received the following electric securities filings:

Docket Numbers: ES07-25-000.

Applicants: Upper Peninsula Power Company.

Description: Upper Peninsula Power Company submits its Application for Renewed Authorization to Issue Securities Under Section 204 of the FPA.

Filed Date: 02/28/2007.

Accession Number: 20070228-5062.

Comment Date: 5 p.m. Eastern Time on Wednesday, March 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-4118 Filed 3-7-07; 8:45 am]

BILLING CODE 6717-01-P